DEPARTMENT OF ENERGY

Federal Energy Regulatory Commission

Combined Notice of Filings

Take notice that the Commission has received the following Natural Gas Pipeline Rate and Refund Report filings:

Filings Instituting Proceedings

Docket Numbers: RP17-390-001.

Applicants: Questar Overthrust Pipeline, LLC.

Description: Questar Overthrust Pipeline, LLC submits tariff filing per 154.205(b): Statement of Negotiated Rates Version 7.1.0 to be effective 3/1/2017 under RP17-390 Filing Type: 600.

Filed Date: 02/21/2017.

Accession Number: 20170221-5280.

Comment Date: 5:00 p.m. Eastern Time on Monday, March 06, 2017.

Docket Numbers: RP17-409-000.

Applicants: Natural Gas Pipeline Company of America.

Description: Natural Gas Pipeline Company of America LLC submits tariff filing per 154.204: Discount-Type Adjustments for Negotiated Rate Agreements to be effective 3/23/2017 under RP17-409 Filing Type: 570.

Filed Date: 02/21/2017.

Accession Number: 20170221-5151.

Comment Date: 5:00 p.m. Eastern Time on Monday, March 06, 2017.

Docket Numbers: RP17-410-000.

Applicants: Eastern Shore Natural Gas Company.

Description: Eastern Shore Natural Gas Company submits tariff filing per 154.203: Filing to Comply with Order in Docket Nos. CP15-18-000, 001 to be effective 3/1/2017 under RP17-410 Filing Type: 580.

Filed Date: 02/21/2017.

Accession Number: 20170221-5160.

Comment Date: 5:00 p.m. Eastern Time on Monday, March 06, 2017.

Docket Numbers: RP17-411-000.

Applicants: Tallgrass Interstate Gas Transmission, L.

Description: Tallgrass Interstate Gas Transmission, LLC submits tariff filing per 154.204: NRA Rate 2017/2/28 Green Plains to be effective 3/1/2017 under RP17-411 Filing Type: 570.

Filed Date: 02/21/2017.

Accession Number: 20170221-5276.

Comment Date: 5:00 p.m. Eastern Time on Monday, March 06, 2017.

Docket Numbers: RP16-1173-001.

Applicants: First ECA Midstream LLC.

Description: First ECA Midstream LLC submits tariff filing per 154.203: Compliance to 103 to be effective 3/23/2017 under RP16-1173 Filing Type: 580.

Filed Date: 02/22/2017.

Accession Number: 20170222-5108.

Comment Date: 5:00 p.m. Eastern Time on Monday, March 06, 2017.

Docket Numbers: RP17-363-001.

Applicants: Eastern Shore Natural Gas Company.

Description: Eastern Shore Natural Gas Company submits tariff filing per 154.203: Correction of Metadata to be effective 3/1/2017 under RP17-363 Filing Type: 580.

Filed Date: 02/23/2017.

Accession Number: 20170223-5151.

Comment Date: 5:00 p.m. Eastern Time on Tuesday, March 07, 2017.

Docket Numbers: RP17-413-000.

Applicants: UGI Sunbury, LLC.

Description: Request for Waiver of Annual Retainage Adjustment Filing of UGI Sunbury, LLC under RP17-413.

Filed Date: 02/23/2017.

Accession Number: 20170223-5084.

Comment Date: 5:00 p.m. Eastern Time on Tuesday, March 07, 2017.

Docket Numbers: RP17-414-000.

Applicants: Algonquin Gas Transmission, LLC.

Description: Algonquin Gas Transmission, LLC submits tariff filing per 154.204: Negotiated Rate—Boston Gas to BBPC—793199 & 793201 to be effective 3/1/2017 under RP17-414 Filing Type: 570.

Filed Date: 02/23/2017.

Accession Number: 20170223-5127.

Comment Date: 5:00 p.m. Eastern Time on Tuesday, March 07, 2017.

Docket Numbers: RP17-415-000.

Applicants: Texas Eastern Transmission, LP.

Description: Texas Eastern Transmission, LP submits tariff filing per 154.204: Negotiated Rate—Chevron release to ConocoPhillips—8945011 to be effective 3/1/2017 under RP17-415 Filing Type: 570.

Filed Date: 02/23/2017.

Accession Number: 20170223-5128.

Comment Date: 5:00 p.m. Eastern Time on Tuesday, March 07, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2017.
Nathaniel J. Davis, Sr.,
Deputy Secretary.

[FR Doc. 2017-04411 Filed 3-6-17; 8:45 am]

BILLING CODE 6717-01-P